DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Protection and Advocacy for Individuals With Mental Illness (PAIMI) Annual Program Performance Report (OMB No. 0930-0169)—Revision

The Protection and Advocacy for Individuals with Mental Illness (PAIMI) Act, [42 U.S.C. 10801 et seq.] authorized funds to support protection and advocacy services on behalf of individuals with severe mental illness and severe emotional impairment who are at risk for abuse (including incidents of seclusion, restraint, and serious injuries or fatalities related to such incidents, neglect, residing in a public or private care or treatment facility. The PAIMI Program is managed by the Center for Mental Health Services (CMHS) within the Substance Abuse and Mental Health Services Administration (SAMHSA).

Under the PAIMI Act, formula grant awards are made to governor-designated protection and advocacy (P&A) systems in each of the 50 states, the District of Columbia (Mayor), the American Indian Consortium [the Dine (Navajo) and Hopi Peoples in Northern Arizona and New Mexico], and five (5) jurisdictions—American Samoa, Guam, the Commonwealth of the Northern Mariana Islands, the Commonwealth of Puerto Rico, and the U.S. Virgin Islands. The awards are used to provide legal-based advocacy services which ensure protection against violation of the constitutional and federal rights of individuals with significant (severe) mental illness (adults) and significant (severe) emotional impairment.

In 2000, the PAIMI Act amendments, created a 57th P&A system—the American Indian Consortium and authorized P&A systems to serve PAIMI-eligible individuals, as defined under the Act [42 U.S.C. at 10802 (4)], who reside in the community including their own homes. However, P&A services to PAIMI-eligible clients residing in the community is permissible only when the annual PAIMI appropriation met or exceeded $30 million, and that residents in public and private residential care or treatment facilities had service priority over community residents. The Children's Health Act of 2000 (CHA) [42 U.S.C. 290aa et seq.], also referenced State P&A authority to obtain information on incidents of seclusion, restraint, and related deaths in certain facilities.

The PAIMI Act requires each of the 57 P&A systems to file an annual report, no later than January 1st, of its activities and accomplishments and to provide information on such topics as, the numbers of individuals served, types of complaints addressed, and the number of intervention strategies used to resolve the presenting issues. Under the Act, the PAIMI Advisory Council (PAC) of each P&A system is also required to submit its independent assessment of the effectiveness of the services provided to, and the activities conducted by, the P&A systems on behalf of PAIMI-eligible individuals and their family members, in a separate section of the Program Performance Report (PPR).

The Developmental Disabilities Assistance and Bill of Rights Act of 1975, referred to as the DD Act [42 U.S.C. 6042 et seq.], created the State P&A systems. The Administration on Developmental Disabilities (ADD), within the Administration for Children and Families, has administrative oversight of the Protection and Advocacy for Developmental Disabilities (PADD) Program. Since 1986, the Department has provided formula grant funds to the same governor-designated P&A systems to protect and advocate for individuals with significant mental illness. SAMHSA is currently waiting for the ADD to issue a Notice of Proposed Rulemaking (NPR) for the DD Act of 2000 amendments. These amendments will also govern activities fulfilled by the State P&A systems under the PAIMI Act. Therefore, to ensure to the greatest extent possible that all facets of the P&A system administered by the Department are subject to the same requirements, SAMHSA will wait until the DD Act NPR is published before revising the PAIMI Rules. [The Final PAIMI Rules were issued in 1997 and were extended in 2000 and 2004. An FRN was published May 2006 to extend the current PAIMI Rules, which will expire in 2007, until 2010].

SAMHSA is revising the PAIMI Annual PPR for the following reasons: (1) To make it consistent with the requirements of the annual reporting requirements under the PAIMI Act and the PAIMI Rules [42 CFR Part 51] and the CHA of 2000 Parts H and I; (2) to conform with the Office of Management and Budget's (OMB) findings and recommendations from the FY 2005 Program Assessment Rating Tool (PART) review of the PAIMI Program; (3) to broaden the category of deaths investigated by the State P&A systems; (4) to reduce the reporting burdens for the State P&A systems and the PAIMI PAC in certain areas; and, (5) to enhance the PAC section by providing better information on its role, responsibility, and authority on P&A system PAIMI activities and services.

Planned revisions to the PAIMI Annual PPR and the PAC included the following items:

(1) Changing the fonts to improve readability;

(2) Adding Tables of Content and Glossaries to the PPR and Advisory Council Report (ACR) sections;

(3) Reducing the reporting burden in Section 2. PAIMI Program Priorities and Objectives by requesting only one case example per priority (goal) rather than per objective;

(4) Revising Sections: 2. PAIMI Program Priorities (Goals) and Objectives: 4. Case Complaints/Problems of Individuals; and, 5. Intervention Strategies on Behalf of Groups of PAIMI-eligible Individuals, for consistency with the findings and recommendations from the OMB, 2005 PART evaluation/assessment of the PAIMI Program and to clarify and/or enhance the instructional guidance for determining activity/intervention outcomes and estimating the number of individuals or groups impacted by P&A system activities/interventions in sections 4 and 5;

(5) Expanding Section 4.E.2. by adding an item c. for the number of death investigation activities not related to incidents of seclusion and restraint;

(6) Providing the applicable PAIMI citations to the guidance in Section 8. Other Services & Activities.

(7) Modifying the ACR, Sections B. PAC Membership and C. PAC Ethnicity/Racial Diversity for consistency with the format used in the PAIMI Application for FY 2007-2009;

(8) Enhancing Section F. PAC Activities to include the applicable citations that will provide each PAC with better information on its authority, role, and responsibilities as the P&A governing authority.

(9) Revising Section G. PAIMI Assessment of PAIMI Program Operations, by eliminating the previous requirement that the PAC comment on each P&A system annual priority and objective. The PAC will only submit a summary of its assessment of the P&A system's annual PAIMI Program priorities, objectives, activities and program operations;

(10) Adding an additional item to Section G. to identify the training and technical assistance needs of each PAC; and,

(11) Adding the applicable citations to Section H. Grievance Procedures to provide the PAC with better information on its authority, role, and responsibilities.

The revised report formats will be effective for the report due on January 1, 2008.

The annual burden estimate is as follows:

| Number of respondents | Number of responses per respondent | Hours per response | Total hour burden
Annual Program Performance Report | 57 | 1 | 26 | 1,482
Activities & Accomplishments |  |  | (20) | (1,140)
Performance outcomes |  |  | (3) | (171)
Expenses |  |  | (1) | (57)
Budget |  |  | (1) | (57)
Priority statements & objectives |  |  | (1) | (57)
Advisory Council Report | 57 | 1 | 10 | 570
Total | 114 |  |  | 2,052

Written comments and recommendations concerning the proposed information collection should be sent by October 10, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 31, 2007.
Elaine Parry,
Acting Director, Office of Program Services.

[FR Doc. E7-17764 Filed 9-7-07; 8:45 am]

BILLING CODE 4162-20-P